DEPARTMENT OF HEALTH AND HUMAN SERVICES

National Institutes of Health

Center for Scientific Review Amended Notice of Meeting

Notice is hereby given of a change in the meeting of the Center for Scientific Review Special Emphasis Panel, Member Conflict: Bioengineering, Cellular and Circuit Neuroscience. February 18, 2022, 9:00 a.m. to 1:00 p.m., National Institutes of Health, 6701 Rockledge Drive, Bethesda, MD 20892 which was published in the Federal Register on January 19, 2022, FR Doc 2022-00897, 87 FR 2878.

This meeting is being amended to change the meeting time from 9:00 a.m.-1:00 p.m. to 12:00 p.m.-5:00 p.m. The meeting is closed to the public.

Dated: January 19, 2022.
David W Freeman,
Program Analyst, Office of Federal Advisory Committee Policy.

[FR Doc. 2022-01365 Filed 1-24-22; 8:45 am]

BILLING CODE 4140-01-P